EXPORT-IMPORT BANK OF THE UNITED STATES

Economic Impact Policy

This notice is to inform the public that the Export-Import Bank has received an application to finance the export of up to $200 million of equipment and other goods and services to a buyer in Egypt. The U.S. exports will enable the Egyptian company to produce anhydrous ammonia from natural gas. The Egyptian company will have a production capacity of 2,000 metric tons of ammonia per day, with initial production to commence in the latter part of 2007. It is envisioned this new production will be consumed primarily in Jordan and India. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-14617 Filed 6-25-04; 8:45 am]

BILLING CODE 6690-01-P